DEPARTMENT OF COMMERCE

National Oceanic and Atmospheric Administration

[I.D. 020105N]

Proposed Information Collection; Comment Request; Atlantic Highly Migratory Species Observer Notification Requirements

AGENCY: National Oceanic and Atmospheric Administration (NOAA).

ACTION: Notice.

SUMMARY: The Department of Commerce, as part of its continuing effort to reduce paperwork and respondent burden, invites the general public and other Federal agencies to take this opportunity to comment on proposed and/or continuing information collection, as required by the Paperwork Reduction Act of 1995.

DATES: Written comments must be submitted on or before April 8, 2005.

ADDRESSES: Direct all written comments to Diana Hynek, Departmental Paperwork Clearance Officer, Department of Commerce, Room 6625, 14th and Constitution Avenue, NW, Washington, DC 20230 (or via the Internet at dHynek@doc.gov).

FOR FURTHER INFORMATION CONTACT: Requests for additional information or copies of the information collection instrument(s) and instructions should be directed to Chris Rilling, National Marine Fisheries Service (NMFS), Highly Migratory Species Management Division, 1315 East-West Highway, Silver Spring, MD 20910 (phone 301-713-2347).

SUPPLEMENTARY INFORMATION:

I.Abstract

Under current regulations NMFS may select for observer coverage any fishing trip by a vessel that has a permit for Atlantic Highly Migratory Species (HMS). NMFS notifies vessel owners, in writing, when their vessels have been selected. The owners of those vessels are then required to notify NMFS before commencing any fishing trip for Atlantic HMS. This notification allows NMFS to arrange for observer placements and assignments. The notification may be made by phone, fax, or in writing prior to each trip for which a vessel is selected. A form is provided by NMFS for written responses. It is estimated that it would require approximately two minutes to provide the response. The estimated number of responses exceeds the number of respondents due to multiple trips taken within a particular season.

The vessels are selected randomly from a list of active vessels that have reported landings of targeted species during the previous year. Observers are placed aboard vessels to collect, among other things, information on species caught, catch disposition, gear, effort, and bycatch. The information is used in stock assessments, to estimate rates of bycatch of non-targeted and protected species such as sea turtles, and to improve overall management of the fishery. A Biological Opinion (BiOp) issued on June 1, 2004, under the Endangered Species Act, requires a minimum of eight percent observer coverage in the pelagic longline fishery. The shark bottom longline observer program has set a target of five percent observer coverage in the shark bottom longline fishery. A BiOp issued in October 2003, requires NMFS to maintain or increase this level of observer coverage. Observer coverage for the shark gillnet fishery fluctuates from approximately 50 percent to 100 percent, depending on the time of year. Vessels operating in other HMS fisheries are not observed currently but are subject to observer coverage under the regulations. Burden estimates include a ten percent adjustment upward from current levels to account for future expansion of other fisheries.

II. Method of Collection

Notification can be made by phone, fax, or letter.

III. Data

OMB Number: 0648-0374.

Form Number: None.

Type of Review: Regular submission.

Affected Public: Business or other for-profit organizations (vessel owners).

Estimated Number of Respondents: 471.

Estimated Time Per Response: 2 minutes.

Estimated Total Annual Burden Hours: 513.

Estimated Total Annual Cost to Public: $7,780.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: January 28, 2005.
Gwellnar Banks,
Management Analyst, Office of the Chief Information Officer.

[FR Doc. 05-2289 Filed 2-4-05; 8:45 am]

BILLING CODE 3510-22-S